NUCLEAR REGULATORY COMMISSION

[NRC-2017-0201]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from September 12, 2017, to September 25, 2017. The last biweekly notice was published on September 26, 2017.

DATES: Comments must be filed by November 9, 2017. A request for a hearing must be filed by December 11, 2017.

ADDRESSES: You may submit comments by any of the following methods (unless this document describes a different method for submitting comments on a specific subject):

• Federal Rulemaking Web site: Go to http://www.regulations.gov and search for Docket ID NRC-2017-0201. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, U.S. Nuclear Regulatory Commission, Washington, DC 20555-0001; telephone: 301-415-1927, email: Lynn.Ronewicz@nrc.gov.

SUPPLEMENTARY INFORMATION:

I. Obtaining Information and Submitting Comments

A. Obtaining Information

Please refer to Docket ID NRC-2017-0201, facility name, unit number(s), plant docket number, application date, and subject when contacting the NRC about the availability of information for this action. You may obtain publicly-available information related to this action by any of the following methods:

• Federal rulemaking Web site: Go to http://www.regulations.gov and search for Docket ID NRC-2017-0201.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0201, facility name, unit number(s), plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC's Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment, which is available for public inspection in ADAMS and at the NRC's PDR. For additional direction on accessing information related to this document, see the “Obtaining Information and Submitting Comments” section of this document.

Dominion Nuclear Connecticut, Inc. (DNC), Docket Nos. 50-245, 50-336, and 50-423, Millstone Power Station, Unit Nos. 1, 2, and 3, New London County, Connecticut

Date of amendment request: June 15, 2017. A publicly-available version is in ADAMS under Accession No. ML17171A232.

Description of amendment request: The amendments would revise the Renewed Facility Operating Licenses for Millstone Power Station, Unit Nos. 1, 2, and 3, by administratively changing the company name “Dominion Nuclear Connecticut, Inc.” with “Dominion Energy Nuclear Connecticut, Inc.”

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment to each license is administrative in nature. DNC, which will be renamed Dominion Energy Nuclear Connecticut, Inc., will remain the licensee authorized to operate and possess the units, and its functions, powers, resources and management will not change. The proposed changes do not adversely affect accident initiators or precursors, and do not alter the design assumptions, conditions, or configuration of the plant or the manner in which the plant is operated and maintained. The ability of structures, systems, and components to perform their intended safety functions is not altered or prevented by the proposed changes, and the assumptions used in determining the radiological consequences of previously evaluated accidents are not affected.

Therefore, the proposed changes do not involve a significant increase in the probability or consequences of an accident previously evaluated.

2. Does the proposed amendment create the possibility of a new or different kind of accident from any accident previously evaluated?

Response: No.

The proposed amendment to each license is purely administrative in nature. The functions of the licensee will not change. These changes do not involve any physical alteration of the plant (i.e., no new or different type of equipment will be installed), and installed equipment is not being operated in a new or different manner. Thus, no new failure modes are introduced.

Therefore, the proposed changes do not create the possibility of a new or different kind of accident from any accident previously evaluated.

3. Does the proposed amendment involve a significant reduction in the margin of safety?

Response: No.

The proposed amendment to each license is administrative in nature. DNC, which will be renamed Dominion Energy Nuclear Connecticut, Inc., will remain the licensee authorized to operate and possess the units, and its functions will not change. The proposed changes do not alter the manner in which safety limits, limiting safety system settings, or limiting conditions for operation are determined. There are no changes to setpoints at which protective actions are initiated, and the operability requirements for equipment assumed to operate for accident mitigation are not affected.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Energy, Inc., 120 Tredegar Street, RS-2, Richmond, VA 23219.

NRC Branch Chief: James G. Danna.

Entergy Operations, Inc., Docket No. 50-313, Arkansas Nuclear One, Unit 1 (ANO-1), Pope County, Arkansas

Date of amendment request: July 17, 2017. A publicly-available version is in ADAMS under Accession No. ML17198F072.

Description of amendment request: The amendment would revise the Technical Specifications (TSs) for ANO-1 and would establish a new Completion Time in ANO-1 TS 3.7.5, “Emergency Feedwater (EFW) System,” where one steam supply to the turbine driven EFW pump is inoperable concurrent with an inoperable motor-driven EFW train. The amendment would also establish changes to the TSs that establish specific Actions: (1) For when the motor driven EFW train is inoperable at the same time and; (2) for when the turbine-driven EFW train is inoperable either (a) due solely to one inoperable steam supply, or (b) due to reasons other than one inoperable steam supply.

The amendment request was submitted in accordance with NRC-approved Technical Specification Task Force (TSTF) Traveler, TSTF-412, Revision 3, “Provide Actions for One Steam Supply to Turbine Driven AFW [Auxiliary Feedwater]/EFW Pump Inoperable,” with certain plant-specific deviations identified in the application. The availability of this TS improvement was published in the Federal Register on July 17, 2007 (72 FR 39089), as part of the consolidated line item improvement process (CLIIP).

Basis for proposed no significant hazards consideration determination: As required by 10 CFR 50.91(a), the licensee affirmed the applicability of the model no significant hazards consideration determination, which is presented below:

1. Does the proposed change involve a significant increase in the probability or consequences of any accident previously evaluated?

Response: No.

The Auxiliary/Emergency Feedwater (AFW/EFW) System is not an initiator of any design basis accident or event, and therefore the proposed changes do not increase the probability of any accident previously evaluated. The proposed changes to address the condition of one or two motor driven AFW/EFW trains inoperable and the turbine driven AFW/EFW train inoperable due to one steam supply inoperable do not change the response of the plant to any accidents.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes do not result in a change in the manner in which the AFW/EFW System provides plant protection. The AFW/EFW System will continue to supply water to the steam generators to remove decay heat and other residual heat by delivering at least the minimum required flow rate to the steam generators. There are no design changes associated with the proposed changes. The changes to the Conditions and Required Actions do not change any existing accident scenarios, nor create any new or different accident scenarios.

The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the changes do not create the possibility of a new or different kind of accident from any accident previously evaluated.

3. Does the proposed change involve a significant reduction in a margin of safety?

Response: No.

The proposed changes do not alter the manner in which safety limits, limiting safety system settings or limiting conditions for operation are determined. The safety analysis acceptance criteria are not impacted by these changes. The proposed changes will not result in plant operation in a configuration outside the design basis.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Anna Vinson Jones, Senior Counsel, Entergy Services, Inc., 101 Constitution Avenue NW., Suite 200 East, Washington, DC 20001.

NRC Branch Chief: Robert J. Pascarelli.

Entergy Operations, Inc., Docket No. 50-368, Arkansas Nuclear One, Unit 2 (ANO-2), Pope County, Arkansas

Date of amendment request: July 17, 2017. A publicly-available version is in ADAMS under Accession No. ML17198F356.

Description of amendment request: The amendment would revise the technical specifications (TSs) for ANO-2 by establishing Actions and Allowable Outage Times in TS 3.7.1.2, “Emergency Feedwater [EFW] System,” for several combinations of inoperable EFW trains, consistent with NUREG-1432, “Standard Technical Specifications for Combustion Engineering Plants,” Revision 4. Revision 4 of NUREG-1432 includes changes incorporated by Technical Specification Task Force (TSTF)-340, Revision 3, “Allow 7 Day Completion Time for a Turbine-Driven AFW [Auxiliary Feedwater] Pump Inoperable,” and TSTF-412, Revision 3, “Provide Actions for One Steam Supply to Turbine Driven AFW/EFW Pump Inoperable.” Certain proposed deviations from the NUREG-1432, Revision 4, TS changes are identified in the application.

Basis for proposed no significant hazards consideration determination: As required by 10 CFR 50.91(a), the licensee has provided its analysis of the issue of no significant hazards consideration, which is presented below:

1. Does the proposed change involve a significant increase in the probability or consequences of an accident previously evaluated?

Response: No.

The proposed changes clarify the operability requirements of the EFW system and provide appropriate remedial actions to be performed respective to potential EFW configurations or out-of-service periods, consistent with the STS [standard technical specifications]. The EFW system is not an initiator of any design basis accident or event and, therefore, the proposed changes do not increase the probability of any accident previously evaluated. The EFW system is used to respond to accidents previously evaluated. The proposed change affects only the actions taken when portions of the EFW system are unavailable and does not affect the design of the EFW system.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, this change does not involve a significant increase in the probability or consequences of an accident previously evaluated.

2. Does the proposed change create the possibility of a new or different kind of accident from any accident previously evaluated?

Response: No.

The proposed changes do not result in a change in the manner in which the EFW system provides plant protection. The EFW system will continue to supply water to the Steam Generators (SGs) to remove decay heat and other residual heat by delivering at least the minimum required flow rate to the SGs. There are no design changes associated with the proposed changes. The changes to the related TS Actions do not change any existing accident scenarios, nor create any new or different accident scenarios.

The changes do not involve a physical alteration of the plant (i.e., no new or different type of equipment will be installed) or a change in the methods governing normal plant operation. In addition, the changes do not impose any new or different requirements or eliminate any existing requirements. The changes do not alter assumptions made in the safety analysis.

Therefore, this change does not create the possibility of a new or different kind of accident from an accident previously evaluated.

3. Does the proposed change involve a significant reduction in a margin of safety?

Response: No.

The proposed changes do not alter the manner in which safety limits, limiting safety system settings, or limiting conditions for operation are determined. The safety analysis acceptance criteria are not impacted by these changes. The proposed changes will not result in continued plant operation in a configuration outside the design basis.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Anna Vinson Jones, Senior Counsel, Entergy Services, Inc., 101 Constitution Avenue NW., Suite 200 East, Washington, DC 20001.

NRC Branch Chief: Robert J. Pascarelli.

Exelon Generation Company, LLC, Docket No. 50-219, Oyster Creek Nuclear Generating Station (Oyster Creek), Ocean County, New Jersey

Date of amendment request: August 30, 2017. A publicly-available version is available in ADAMS under Accession No. ML17242A211.

Description of amendment request: The amendment would revise the Oyster Creek Renewed Facility Operating License No. DPR-16, Section 2.C, License Condition (5) by replacing Boiling Water Reactor (BWR) Vessel and Internals Project technical report BWRVIP-18, Revision 0, as approved by NRC staff's Final Safety Evaluation Report dated December 2, 1999, with the latest BWRVIP-18 revision approved on December 21, 2016.

Basis for proposed no significant hazards consideration determination: As required by 10 CFR 50.91(a), the licensee has provided its analysis of the issue of no significant hazards consideration, which is presented below:

1. Do the proposed changes involve a significant increase in the probability or consequences of an accident previously evaluated?

Response: No.

The proposed change to the License Condition 2.C.(5) requirements for inspection of Core Spray spargers, piping and associated components does not alter the use of the inspection methods and criteria used to determine the capability of the Core Spray System to perform its intended safety function that have been previously reviewed and approved by the NRC. The proposed change is in accordance with an NRC approved inspection and flaw evaluation guideline and as such, maintains required safety margins. The proposed change does not adversely affect accident initiators or precursors, nor does it alter the design assumptions, conditions, or configuration of the facility or the manner in which the plant is operated and maintained.

The proposed change does not alter or prevent the ability of structures, systems, and components (SSCs) from performing their intended function to mitigate the consequences of an initiating event within the assumed acceptance limits. The proposed change does not require any physical change to any plant SSCs nor does it require any change in systems or plant operations. The proposed change is consistent with the safety analysis assumptions and resultant consequences.

Incorporating NRG-approved inspection frequency and criteria for Core Spray spargers, piping and associated components has no physical effect on plant equipment and therefore, no impact on the course of plant transients.

Therefore, the proposed change does not involve a significant increase in the probability or consequences of an accident previously evaluated.

2. Do the proposed changes create the possibility of a new or different kind of accident from any accident previously evaluated?

Response: No.

The proposed incorporation of NRC-approved inspection frequency and criteria for Core Spray spargers, piping and associated components is a change based upon previously approved documents and does not involve changes to the plant hardware or its operating characteristics. As a result, no new failure modes are being introduced. There are no hardware changes nor are there any changes in the method by which any plant systems perform a safety function. No new accident scenarios, failure mechanisms, or limiting single failures are introduced as a result of the proposed change.

The proposed change does not introduce any new accident precursors, nor does it involve any physical plant alterations or changes in the methods governing normal plant operation. The change does not alter assumptions made in the safety analysis.

Therefore, the proposed change does not create the possibility of a new or different kind of accident from any accident previously evaluated.

3. Do the proposed changes involve a significant reduction in a margin of safety?

Response: No.

The margin of safety is established through the design of the plant structures, systems, and components, and through the parameters for safe operation and setpoints for the actuation of equipment relied upon to respond to transients and design basis accidents. The use of inspection frequency and criteria for Core Spray spargers, piping and associated components in accordance with NRC-approved methods, guidelines, and criteria provides adequate assurance that the Core Spray System can perform its safety function as required by the plant-specific [loss-of-coolant accident (LOCA)]-analysis. Therefore, the proposed change does not decrease the margin of safety. The proposed change in inspection criteria maintains the current safety margin, which protects the fuel cladding integrity during a postulated LOCA event, but does not change the requirements governing operation or availability of safety equipment assumed to operate to preserve the margin of safety. The change does not alter the behavior of plant equipment, which remains unchanged.

The proposed change to License Condition 2.C.(5) is consistent with NRC-approved methods, guidelines, and criteria and provides adequate assurance that the Core Spray System can perform its safety function as required by the plant-specific LOCA-analysis. No setpoints at which protective actions are initiated are altered by the proposed change. The proposed change does not alter the manner in which the safety limits are determined. This change is consistent with plant design and does not change the Technical Specification operability requirements; thus, previously evaluated accidents are not affected by this proposed change.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

NextEra Energy Seabrook, LLC, Docket No. 50-443, Seabrook Station, Unit No. 1, Rockingham County, New Hampshire

Date of amendment request: July 28, 2017. A publicly-available version is in ADAMS under Accession No. ML17212A034.

Description of amendment request: The amendment would revise the direct current (DC) battery Technical Specifications 3.8.2.1, 3.8.2.2, 3.8.3.1, and 3.8.3.2 such that a DC electrical train is operable with one 100 percent capacity battery aligned to both DC buses in the associated electrical train. The amendment also proposes to remove a footnote to Surveillance Requirement 4.8.2.1 associated with DC battery checks.

Basis for proposed no significant hazards consideration determination: As required by 10 CFR 50.91(a), the licensee has provided its analysis of the issue of no significant hazards consideration, which is presented below:

1. Does the proposed change involve a significant increase in the probability or consequences of an accident previously evaluated?

Response: No.

The technical specification (TS) limiting conditions for operation and required actions associated with the proposed changes to the TS are not initiators of any accidents previously evaluated, so the probability of accidents previously evaluated is unaffected by the proposed changes. The proposed change does not alter the design, function, or operation of any plant structure, system, or component (SSC). The capability of any operable TS-required SSC to perform its specified safety function is not impacted by the proposed change. As a result, the outcomes of accidents previously evaluated are unaffected.

Therefore, the proposed changes do not result in a significant increase in the probability or consequences of an accident previously evaluated.

2. Does the proposed change create the possibility of a new or different kind of accident from any previously evaluated?

Response: No.

The proposed change does not challenge the integrity or performance of any safety-related systems. No plant equipment is installed or removed, and the changes do not alter the design, physical configuration, or method of operation of any plant SSC.

No physical changes are made to the plant, so no new causal mechanisms are introduced. Therefore, the proposed changes to the TS do not create the possibility of a new or different kind of accident from any accident previously evaluated.

The proposed change does not challenge the integrity or performance of any safety-related systems. No plant equipment is installed or removed, and the changes do not alter the design, physical configuration, or method of operation of any plant SSC. No physical changes are made to the plant, so no new causal mechanisms are introduced.

Therefore, the proposed changes to the TS do not create the possibility of a new or different kind of accident from any accident previously evaluated.

3. Does the proposed change involve a significant reduction in the margin of safety?

Response: No.

The ability of any operable SSC to perform its designated safety function is unaffected by the proposed changes. The proposed changes do not alter any safety analyses assumptions, safety limits, limiting safety system settings, or method of operating the plant. The changes do not adversely affect plant operating margins or the reliability of equipment credited in the safety analyses. With the proposed change, each DC electrical trains remains fully capable of performing its safety function.

Therefore, the proposed changes do not involve a significant reduction in the margin of safety.

The NRC staff has reviewed the licensee's analysis, and based on this review, it appears that the three standards of 50.92(c) are satisfied. Therefore, the NRC staff proposes to determine that the amendment request involves no significant hazards consideration.

Attorney for licensee: William Blair, Managing Attorney, Florida Power & Light Company, P.O. Box 14000, Juno Beach, FL 33408-0420.

NRC Branch Chief: James G. Danna.

Southern Nuclear Operating Company, Inc. (SNC), Docket Nos. 50-424, 50-425, 52-025, and 52-026, Vogtle Electric Generating Plant, Units 1, 2, 3, and 4, Burke County, Georgia

Southern Nuclear Operating Company, Inc., Docket Nos. 50-348 and 50-364, Joseph M. Farley Nuclear Plant, Units 1 and 2, Houston County, Alabama

Southern Nuclear Operating Company, Inc., Docket Nos. 50-321 and 50-366, Edwin I. Hatch Nuclear Plant, Unit Nos. 1 and 2, City of Dalton, Georgia

Date of amendment request: August 30, 2017. A publicly-available version is in ADAMS under Accession No. ML17243A202.

Description of amendment request: The amendments would relocate the emergency operations facility for the eight units of the SNC nuclear fleet from the SNC corporate headquarters in Birmingham, Alabama, to a new location 1.3 miles away.

Basis for proposed no significant hazards consideration determination: As required by 10 CFR 50.91(a), the licensee has provided its analysis of the issue of no significant hazards consideration, which is presented below:

1. Does the proposed change involve a significant increase in the probability or consequences of an accident previously evaluated?

Response: No.

The proposed change to relocate the consolidated EOF [emergency operations facility] within Birmingham, Alabama, requires no change to the required staff response time for supplementing onsite personnel in response to a radiological emergency. The relocated EOF is along the same major roadway and response personnel will be able to access the facility, using for the most part, the same path they currently use to travel to the corporate office. The license amendment does not request a change to the response time and the facility will be functional within the same timeframe as for the existing EOF. The functions and capabilities of the relocated EOF will continue to meet the applicable regulatory requirements. The proposed change has no effect on normal plant operation or on any accident initiator or precursors and does not impact the function of plant structures, systems, or components [(SSCs)]. The proposed change does not alter or prevent the ability of the emergency response organization to perform its intended functions to mitigate the consequences of an accident or event.

Therefore, the proposed change does not involve a significant increase in the probability or consequences of an accident previously evaluated.

2. Does the proposed change create the possibility of a new or different kind of accident from any accident previously evaluated?

Response: No.

The proposed change only concerns implementation of the standard emergency plan by relocating the Corporate EOF a short distance (1.3 miles) from its current location. The new location will not change the time the facility will be functional to provide emergency response. The functions and capabilities of the relocated EOF will continue to meet the applicable regulatory requirements. The proposed change will not change the design function or operation of SSCs. The change does not impact the accident analysis for any of the SNC nuclear plants. The change does not involve a physical alteration of any of the plants, a change in the method of plant operation, or new operator actions. The proposed change does not introduce failure modes that could result in a new accident, and the change does not alter assumptions made in safety analyses.

Therefore, the proposed change does not create the possibility of a new or different kind of accident from any accident previously evaluated.

3. Does the proposed change involve a significant reduction in a margin of safety?

Response: No.

The proposed change only impacts the implementation of the emergency plan by relocating the Corporate EOF a short distance (1.3 miles) within Birmingham, Alabama. The change does not the affect staff response time or the time it takes to make the facility operational to perform its intended emergency response functions. The functions and capabilities of the relocated EOF will continue to meet the applicable regulatory requirements. Margin of safety is associated with confidence in the ability of the fission product barriers (i.e., fuel cladding, reactor coolant system pressure boundary, and containment structure) to limit the level of radiation dose to the public. The proposed change is associated with the emergency plan and does not impact operation of the plant or its response to transients or accidents. The change does not affect Technical Specifications. The change does not involve a change in the method of plant operation, and accident analyses will not be affected by the proposed change. Safety analyses acceptance criteria are not affected. The standard emergency plan and the plant annexes will continue to provide the required response staff for performing major tasks for the functional areas of the emergency plans.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Michael T. Markley.

Southern Nuclear Operating Company, Docket Nos. 52-025 and 52-026, Vogtle Electric Generating Plant, Units 3 and 4, Burke County, Georgia

Date of amendment request: August 31, 2017. A publicly-available version is in ADAMS under Accession No. ML17243A088.

Description of amendment request: The requested amendments propose to depart from approved AP1000 Design Control Document by proposing changes to the combined license (COL) and the COL Appendix A, Technical Specifications. Specifically, the amendments, if approved, would revise the COL documents mentioned previously to reflect the proposed changes to the reactor coolant system and main steam line leakage detection systems for detection of leakage at all times and consideration of instrument sensitivities not accounted for.

Basis for proposed no significant hazards consideration determination: As required by 10 CFR 50.91(a), the licensee has provided its analysis of the issue of no significant hazards consideration, which is presented below, with NRC staff edits in square brackets:

1. Does the proposed amendment involve a significant increase in the probability or consequences of an accident previously evaluated?

Response: No.

The [reactor coolant system (RCS)] leakage detection systems provide early warning of abnormal degradation of the reactor coolant pressure boundary (RCPB) or the main steam lines inside containment so that actions can be taken to prevent pipe breaks. The change proposed to limiting condition for operation (LCO) 3.4.9 adds limited periods during which the containment sump level and/or containment atmosphere F18 particulate monitor are not required to be operable—during and for 2 hours after use of the containment purge flow path, and during in-containment refueling water storage tank (IRWST) gutter drain isolation valve closure and for 2 hours after reopening the valves—and proposes a compensatory increase in the frequency of the RCS inventory balance during these periods. Containment purge, containment venting and IRWST gutter drain isolation valve closure are evolutions associated with normal operating conditions. The probability of a leakage flaw growing to a size that would cause pipe failure during and for 2 hours after IRWST gutter drain isolation valve inservice testing or a containment venting evolution is low because the durations of the test and venting evolution are short. The probability of a leakage flaw growing to a size that would cause pipe failure during and for 2 hours after a containment purge operation is low because containment purge operations at power are infrequent, and because containment purge in preparation for refueling is conducted concurrent with operations that will put the plant in operating modes for which LCO 3.4.9 is not applicable (MODES 5 and 6).

The RCS inventory balance method of leak detection is quantitative and remains available when the plant has been operating at steady state for at least 12 hours and the leakage instrumentation is not required to be operable. In addition, the leak detection instruments will remain functional and have sensitivities such that the instrumentation will still be useful as a leak detection aid to operators during a containment purge operation or IRWST gutter drain isolation valve inservice testing. The RCS leakage detection instrumentation is not credited with consequence mitigation during any accident previously evaluated.

Existing Required Action A.1 is intended to determine whether the remaining required containment sump level instrument is functioning properly when one of the required instruments is inoperable. Removal of Required Action A.1 does not increase the probability or consequences of an accident previously evaluated because a new Surveillance Requirement is proposed which will provide more appropriate monitoring to assess operability of the remaining required containment sump level channel.

Therefore, the proposed amendment does not involve a significant increase in the probability or consequences of an accident previously evaluated.

2. Does the proposed amendment create the possibility of a new or different kind of accident from any accident previously evaluated?

Response: No.

The failure of the leak detection systems to detect small leaks in the reactor coolant pressure boundary could lead to large undetected leaks and possibly a loss of coolant accident. Loss of coolant accidents for a spectrum of pipe sizes and locations are already postulated in [Updated Final Safety Analysis Report (UFSAR)] Chapter 15, Section 15.6. Breaks in the main steam lines inside containment are also analyzed in UFSAR Chapter 15, Section 15.1. Unidentified leakage detection and operator action in response to unidentified leakage are not postulated for any of the design basis accident analyses described in UFSAR Chapter 15.

Therefore, the proposed amendment does not create the possibility of a new or different kind of accident from any accident previously evaluated.

3. Does the proposed amendment involve a significant reduction in a margin of safety?

Response: No.

The proposed amendment does not reduce RCS leakage detection instrument availability with respect to IRWST gutter drain isolation valve closure or reactor power level. The changes to compensate for instrument sensitivities during containment purge operation do not represent a significant portion of the expected operating time in MODES 1, 2, 3 and 4. The containment purge isolation valves are opened temporarily during plant startup to relieve containment pressure increase due to thermal expansion. Containment purge during power operation may be required to support containment entry—which is infrequent. The containment purge flow paths are also used for venting the containment atmosphere to control containment pressure differential as weather changes affect ambient pressure. When the containment purge system is not being used to support personnel access into containment or to control the containment atmospheric pressure, the containment air filtration system containment isolation valves are maintained in their normally closed position. The IRWST gutter drain isolation valves are cycled quarterly, but are normally maintained in the open position. Therefore, use of the containment purge flow paths and closure of the IRWST gutter drain isolation valves do not represent a significant portion of the time in power operation. In addition, the action to perform a RCS inventory balance on a greater frequency during these evolutions will provide more appropriate monitoring to assess operability of the leak detection instrumentation. Therefore, the proposed amendment does not involve a significant reduction in a margin of safety.

Removing existing Required Action A.1 and adding surveillance of the containment sump level channels does not significantly decrease the margin of safety. The prescribed Action did not provide definitive information about instrument performance or operability. The new Surveillance Requirement proposed will provide a history of the operational performance of the containment sump level instrumentation that will better assist in the determination of instrument operability.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue, North, Birmingham, AL 35203-2015.

NRC Branch Chief: Jennifer Dixon-Herrity.

Virginia Electric and Power Company, Docket Nos. 50-280 and 50-281, Surry Power Station, Unit Nos. 1 and 2, Surry County, Virginia

Date of amendment request: May 23, 2017. A publicly-available version is in ADAMS under Accession No. ML17150A302.

Description of amendment request: The amendments would add operability requirements, required actions, instrument settings, and surveillance requirements to the Technical Specifications (TSs) for the 4160 volt (V) emergency bus negative sequence voltage (open phase) protection function. Specifically, the proposed amendments would revise TS Table 3.7-2, “Engineered Safeguards Action, Instrument Operating Conditions”; Table 3.7-4, “Engineered Safety Feature System Initiation Limits Instrument Setting”; Table 4.1-1, “Minimum Frequencies for Check, Calibrations and Test of Instrument Channels”; and add new TS Action 27 Table Notation to Tables 3.7-2 and 3.7-3, “Instrument Operating Conditions for Isolation Functions.” The negative sequence voltage (open phase) protection function provides detection and isolation of one or two open phases (i.e., an open phase condition) on a TS required offsite primary (preferred) power source and initiates transfer to the onsite emergency power source (i.e., the emergency diesel generators (EDGs)).

Basis for proposed no significant hazards consideration determination: As required by 10 CFR 50.91(a), the licensee has provided its analysis of the issue of no significant hazards consideration, which is presented below:

1. Does the change involve a significant increase in the probability or consequences of an accident previously evaluated?

Response: No.

The proposed change adds operability requirements, required actions, instrument settings, and surveillance requirements for the negative sequence voltage (open phase) protection function associated with the 4160V emergency buses. This system provides an additional level of undervoltage protection for Class 1E electrical equipment. The proposed change will promote reliability of the negative sequence voltage (open phase) protection circuitry in the performance of its design function of detecting and mitigating an open phase condition (OPC) on a required off-site primary power source and initiating transfer to the onsite emergency power source.

The new negative sequence voltage (open phase) protection function will further ensure the normally operating Class 1E motors/equipment, which are powered from the Class 1E buses, are appropriately isolated from a primary off-site power source experiencing a consequential OPC and will not be damaged. The addition of the negative sequence voltage (open phase) protection function will continue to allow the existing undervoltage protection circuitry to function as originally designed (i.e., degraded and loss of voltage protection will remain in place and be unaffected by this change). The proposed change does not affect the probability of any accident resulting in a loss of voltage or degraded voltage condition on the Class 1E electrical buses and will enhance station response to mitigating the consequences of accidents previously evaluated as this change further ensures continued operation of Class 1E equipment throughout accident scenarios.

Specific models and analyses were performed and demonstrated that the proposed negative sequence voltage (open phase) protection function, with the specified operability requirements, required actions, instrument settings, and surveillance requirements, will ensure the Class 1E system will be isolated from the off-site power source should a consequential OPC occur. The Class 1E motors will be subsequently sequenced back onto the Class 1E buses powered by the EDGs and will therefore not be damaged in the event of a consequential OPC under both accident and non-accident conditions. Therefore, the Class 1E loads will be available to perform their design basis functions should a loss-of-coolant accident (LOCA) occur concurrent with a loss-of-off-site power (LOOP) following an OPC. The loading sequence (i.e., timing) of Class 1E equipment back onto the ESF [engineered safety feature] bus, powered by the EDG, is within the existing degraded voltage time delay.

The addition of the new negative sequence voltage (open phase) protection function will have no impact on accident initiators or precursors and does not alter the accident analysis assumptions.

Based on the above, the proposed change does not involve a significant increase in the probability or consequences of an accident previously evaluated.

2. Does the change create the possibility of a new or different kind of accident from any accident previously evaluated?

Response: No.

The proposed change does not alter the requirements for the availability of the 4160V emergency buses during accident conditions. The proposed change does not alter assumptions made in the safety analysis and is consistent with those assumptions. The addition of the negative sequence voltage (open phase) protection function TS enhances the ability of plant operators to identify and respond to an OPC in an off-site, primary power source, thereby ensuring the station electric distribution system will perform its intended safety function as designed. The proposed TS change will promote negative sequence voltage (open phase) protection function performance reliability in a manner similar to the existing loss of voltage and degraded voltage protective circuitry.

The proposed change does not result in the creation of any new accident precursors; does not result in changes to any existing accident scenarios, and does not introduce any operational changes or mechanisms that would create the possibility of a new or different kind of accident. A failure mode and effects review was completed for postulated failure mechanisms of the new negative sequence voltage protection function and concluded that the addition of this protection function would not affect the existing loss of voltage and degraded voltage protection schemes; would not affect the number of occurrences of degraded voltage conditions that would cause the actuation of the existing Loss of Voltage, Degraded Voltage or negative sequence voltage protection relays; would not affect the failure rate of the existing protection relays; and would not impact the assumptions in any existing accident scenario.

Therefore, the proposed change does not create the possibility of a new or different kind of accident from any accident previously evaluated.

3. Does this change involve a significant reduction in a margin of safety?

Response: No.

The proposed change enhances the ability of the plant to identify and isolate (an) open phase(s) in an off-site, primary power source and transfer the power source for the 4160V emergency buses to the onsite emergency power system. The proposed change does not affect the dose analysis acceptance criteria, does not result in plant operation in a configuration outside the analyses or design basis, and does not adversely affect systems that respond to safely shutdown the plant and to maintain the plant in a safe shutdown condition.

With the addition of the new negative sequence voltage (open phase) protection function, the capability of Class 1E equipment to perform its safety function will be further assured and the equipment will remain capable of mitigating the consequences of previously analyzed accidents while maintaining the existing margin to safety currently assumed in the accident analyses.

Therefore, the proposed TS change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar St., RS-2, Richmond, VA 23219.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation, and/or Environmental Assessment, as indicated. All of these items can be accessed as described in the “Obtaining Information and Submitting Comments” section of this document.

Duke Energy Carolinas, LLC, Docket Nos. 50-413 and 50-414, Catawba Nuclear Station, Units 1 and 2, York County, South Carolina

Date of amendment request: December 15, 2016.

Brief description of amendments: The amendments modified Technical Specification (TS) 3.8.1, “AC Sources—Operating,” to allow greater flexibility in performing Surveillance Requirements (SRs) by modifying Mode restriction notes in TS SRs 3.8.1.11, 3.8.1.16, 3.8.1.17, 3.8.1.19, 3.8.4.8, and 3.8.4.9. These proposed changes are consistent with Technical Specification Task Force (TSTF) Traveler TSTF-283-A, Revision 3, “Modify Section 3.8 Mode Restriction Notes.”

Date of issuance: September 8, 2017.

Effective date: As of the date of issuance and shall be implemented within 120 days of issuance.

Amendment Nos.: 292 (Unit 1) and 288 (Unit 2). A publicly-available version is in ADAMS under Accession No. ML17178A234; documents related to these amendments are listed in the Safety Evaluation enclosed with the amendments.

Renewed Facility Operating License Nos. NPF-35 and NPF-52: Amendments revised the Renewed Facility Operating Licenses and TSs.

Date of initial notice in Federal Register: April 25, 2017 (82 FR 19101).

The Commission's related evaluation of the amendments is contained in a Safety Evaluation dated September 8, 2017.

No significant hazards consideration comments received: No.

Duke Energy Carolinas, LLC, Docket Nos. 50-369 and 50-370, McGuire Nuclear Station, Units 1 and 2, Mecklenburg County, North Carolina

Date of amendment request: January 11, 2017.

Brief description of amendments: The amendments modified Technical Specification (TS) 3.1.2, “Core Reactivity,” to revise the Completion Times of Required Action A.1 and A.2 from 72 hours to 7 days. This proposed change is consistent with NRC-approved Technical Specifications Task Force (TSTF) Traveler TSTF-142-A, Revision 0, “Increase the Completion Time when the Core Reactivity Balance is Not Within Limit.”

Date of issuance: September 8, 2017.

Effective date: As of the date of issuance and shall be implemented within 120 days of issuance.

Amendment Nos.: 297 (Unit 1) and 276 (Unit 2). A publicly-available version is in ADAMS under Accession No. ML17207A284; documents related to these amendments are listed in the Safety Evaluation enclosed with the amendments.

Renewed Facility Operating License Nos. NPF-9 and NPF-17: Amendments revised the Renewed Facility Operating Licenses and TSs.

Date of initial notice in Federal Register: May 23, 2017 (82 FR 23618).

The Commission's related evaluation of the amendments is contained in a Safety Evaluation dated September 8, 2017.

No significant hazards consideration comments received: No.

Duke Energy Carolinas, LLC, Docket Nos. 50-369 and 50-370, McGuire Nuclear Station, Units 1 and 2, Mecklenburg County, North Carolina

Date of amendment request: January 11, 2017.

Brief description of amendments: The amendments modified Technical Specification (TS) 3.6.3, “Containment Isolation Valves,” to add a Note to TS Limiting Condition for Operation 3.6.3 Required Actions A.2, C.2, and E.2 to allow isolation devices that are locked, sealed, or otherwise secured to be verified by use of administrative means. The changes are consistent with NRC-approved Technical Specifications Task Force (TSTF) Traveler TSTF-269-A, Revision 2, “Allow administrative means of position verification for locked or sealed valves.”

Date of issuance: September 18, 2017.

Effective date: As of the date of issuance and shall be implemented within 120 days of issuance.

Amendment Nos.: 298 (Unit 1) and 277 (Unit 2). A publicly-available version is in ADAMS under Accession No. ML17240A354; documents related to these amendments are listed in the Safety Evaluation enclosed with the amendments.

Renewed Facility Operating License Nos. NPF-9 and NPF-17: Amendments revised the Renewed Facility Operating Licenses and TSs.

Date of initial notice in Federal Register: May 23, 2017 (82 FR 23619).

The Commission's related evaluation of the amendments is contained in a Safety Evaluation dated September 18, 2017.

No significant hazards consideration comments received: No.

Duke Energy Carolinas, LLC, Docket Nos. 50-369 and 50-370, McGuire Nuclear Station, Units 1 and 2, Mecklenburg County, North Carolina

Date of amendment request: January 11, 2017.

Brief description of amendments: The amendments modified Technical Specification (TS) 3.4.12, “Low Temperature Overpressure Protection (LTOP) System,” to increase the time allowed for swapping charging pumps to one hour. Additionally, an existing note in the Applicability section of TS 3.4.12 was reworded and relocated to the Limiting Condition for Operation section of TS 3.4.12 as Note 2. These proposed changes were consistent with NRC-approved Technical Specifications Task Force (TSTF) Traveler TSTF-285-A, Revision 1, “Charging Pump Swap LTOP Allowance.”

Date of issuance: September 25, 2017.

Effective date: As of the date of issuance and shall be implemented within 120 days of issuance.

Amendment Nos.: 299 (Unit 1) and 278 (Unit 2). A publicly-available version is in ADAMS under Accession No. ML17244A102; documents related to these amendments are listed in the Safety Evaluation enclosed with the amendments.

Renewed Facility Operating License Nos. NPF-9 and NPF-17: Amendments revised the Renewed Facility Operating Licenses and TSs.

Date of initial notice in Federal Register: May 23, 2017 (82 FR 23620).

The Commission's related evaluation of the amendments is contained in a Safety Evaluation dated September 25, 2017.

No significant hazards consideration comments received: No.

Indiana Michigan Power Company, Docket Nos. 50-315 and 50-316, Donald C. Cook Nuclear Plant (CNP), Unit Nos. 1 and 2, Berrien County, Michigan

Date of amendment request: December 14, 2016, as supplemented by letter dated May 26, 2017.

Brief description of amendments: The amendments revised the note regarding applicability of the limiting condition for operation for CNP Technical Specification 3.9.3, “Containment Penetrations.”

Date of issuance: September 21, 2017.

Effective date: As of the date of issuance and shall be implemented within 120 days of issuance.

Amendment Nos.: 337 (Unit No. 1) and 319 (Unit No. 2). A publicly-available version is in ADAMS under Accession No. ML17214A550; documents related to these amendments are listed in the Safety Evaluation enclosed with the amendments.

Renewed Facility Operating License Nos. DPR-58 and DPR-74: Amendments revised the Renewed Facility Operating Licenses and Technical Specifications.

Date of initial notice in Federal Register: February 28, 2017 (82 FR 12133). The supplemental letter dated May 26, 2017, provided additional information that clarified the application, did not expand the scope of the application as originally noticed, and did not change the NRC staff's original proposed no significant hazards consideration determination as published in the Federal Register.

The Commission's related evaluation of the amendments is contained in a Safety Evaluation dated September 21, 2017.

No significant hazards consideration comments received: No.

NextEra Energy Duane Arnold, LLC, Docket No. 50-331, Duane Arnold Energy Center (DAEC), Linn County, Iowa

Date of amendment request: September 13, 2016, as supplemented by letters dated April 7, 2017, and June 19, 2017.

Brief description of amendment: The amendment made changes to the DAEC Emergency Plan to revise the staffing and the augmentation times for certain emergency response organization positions.

Date of issuance: September 21, 2017.

Effective date: As of the date of issuance and shall be implemented within 180 days.

Amendment No.: 301. A publicly-available version is in ADAMS under Accession No. ML17220A026; documents related to this amendment are listed in the Safety Evaluation enclosed with the amendment.

Renewed Facility Operating License No. DPR-49: The amendment made changes to the DAEC Emergency Plan.

Date of initial notice in Federal Register: November 22, 2016 (81 FR 83877). The supplemental letters dated April 7, 2017, and June 19, 2017, provided additional information that clarified the application, did not expand the scope of the application as originally noticed, and did not change the NRC staff's original proposed no significant hazards consideration determination as published in the Federal Register.

The Commission's related evaluation of the amendment is contained in a Safety Evaluation dated September 21, 2017.

No significant hazards consideration comments received: No.

NextEra Energy Seabrook, LLC, Docket No. 50-443, Seabrook Station, Unit No. 1 (Seabrook), Rockingham County, New Hampshire

Florida Power & Light Company, et al., Docket Nos. 50-335 and 50-389, St. Lucie Plant (St. Lucie), Unit Nos. 1 and 2, St. Lucie County, Florida

Date of amendment request: March 30, 2017.

Brief description of amendments: The amendments revised Technical Specification requirements to operate ventilation systems with charcoal filters from 10 hours to 15 minutes in accordance with TSTF-522, Revision 0, “Revise Ventilation System Surveillance Requirements to Operate for 10 hours per Month.”

Date of issuance: September 11, 2017.

Effective date: As of the date of issuance and shall be implemented within 90 days of issuance.

Amendment Nos: 156 (Seabrook); 240 (St. Lucie, Unit No. 1) and 191 (St. Lucie, Unit No. 2). A publicly-available version is in ADAMS under Accession No. ML17219A556; documents related to these amendments are listed in the Safety Evaluation enclosed with the amendments.

Facility Operating License Nos. NPF-86, DPR-67, and NPF-16: Amendments revised the Facility Operating Licenses and Technical Specifications.

Date of initial notice in Federal Register: May 23, 2017 (82 FR 23627).

The Commission's related evaluation of the amendments is contained in a Safety Evaluation dated September 11, 2017.

No significant hazards consideration comments received: No.

Pacific Gas and Electric Company, Docket Nos. 50-275 and 50-323, Diablo Canyon Nuclear Power Plant, Units 1 and 2 (DCPP), San Luis Obispo County, California

Date of amendment request: October 25, 2016, as supplemented by letters dated June 21, 2017, and August 17, 2017.

Brief description of amendments: The amendments revised the Emergency Plan (E-Plan) for DCPP to adopt the Nuclear Energy Institute's (NEI's) revised Emergency Action Level (EAL) schemes described in NEI 99-01, Revision 6, “Development of Emergency Action Levels for Non-Passive Reactors,” November 2012. Revision 6 of NEI 99-01 has been endorsed by the NRC by letter dated March 28, 2013. The currently approved E-Plan and associated EALs for DCPP are based on the guidance established in NEI 99-01, Revision 4 (NUMARC/NESP-007), “Methodology for Development of Emergency Action Levels,” January 2003, except for security-related EALs, which are based on the guidance established in NEI 99-01, Revision 5, “Methodology for Development of Emergency Action Levels,” February 2008.

Date of issuance: September 25, 2017.

Effective date: As of the date of issuance and shall be implemented within 365 days from the date of issuance.

Amendment Nos.: 231 (Unit 1) and 233 (Unit 2). A publicly-available version is in ADAMS under Accession No. ML17212A379; documents related to these amendments are listed in the Safety Evaluation enclosed with the amendments.

Facility Operating License Nos. DPR-80 and DPR-82: The amendments revised the Facility Operating Licenses.

Date of initial notice in Federal Register: December 6, 2016 (81 FR 87973). The supplemental letters dated June 21, 2017, and August 17, 2017, provided additional information that clarified the application, did not expand the scope of the application as originally noticed, and did not change the NRC staff's original proposed no significant hazards consideration determination as published in the Federal Register.

The Commission's related evaluation of the amendments is contained in a Safety Evaluation dated September 25, 2017.

No significant hazards consideration comments received: No.

Southern Nuclear Operating Company, Inc., Docket Nos. 50-348 and 50-364, Joseph M. Farley Nuclear Plant, Units 1 and 2, Houston County, Alabama

Date of amendment request: October 11, 2016, as supplemented by letters dated May 15, 2017, and June 30, 2017.

Brief description of amendments: The amendments add new Action Conditions (A, B, and C) to Technical Specification (TS) 3.8.9 that address an inoperable 600 Volt AC load center (LC) 1-2R. The amendments include appropriate Required Actions and associated Completion Times for an inoperable LC 1-2R. Appropriate corresponding changes were made to the remaining conditions to reflect these new conditions.

Date of issuance: September 15, 2017.

Effective date: As of the date of issuance and shall be implemented within 90 days of issuance.

Amendment Nos.: 213 (Unit 1) and 210 (Unit 2). A publicly-available version is in ADAMS under Accession No. ML17205A020; documents related to these amendments are listed in the Safety Evaluation enclosed with the amendments.

Renewed Facility Operating License Nos. NPF-2 and NPF-8: The amendments revised the Renewed Facility Operating Licenses and TSs.

Date of initial notice in Federal Register: December 20, 2016 (81 FR 92872). The supplemental letters dated May 15, 2017, and June 30, 2017, provided additional information that clarified the application, did not expand the scope of the application as originally noticed, and did not change the NRC staff's original proposed no significant hazards consideration determination as published in the Federal Register.

The Commission's related evaluation of the amendments is contained in a Safety Evaluation dated September 15, 2017.

No significant hazards consideration comments received: No.

Southern Nuclear Operating Company, Inc., Docket Nos. 50-424 and 50-425, Vogtle Electric Generating Plant, Units 1 and 2, Burke County, Georgia

Date of amendment request: March 24, 2017, as supplemented by letter dated June 15, 2017.

Brief description of amendments: The amendments revised Technical Specification 3.7.9, “Ultimate Heat Sink (UHS),” to extend the completion time to restore one inoperable nuclear service cooling water (NSCW) basin transfer pump from 31 days to 46 days. Additionally, a new condition was added to address two inoperable NSCW basin transfer pumps.

Date of issuance: September 19, 2017.

Effective date: As of the date of issuance and shall be implemented within 90 days of issuance.

Amendment Nos.: 192 (Unit 1) and 175 (Unit 2). A publicly-available version is in ADAMS under Accession No. ML17213A133; documents related to these amendments are listed in the Safety Evaluation enclosed with the amendments.

Facility Operating License Nos. NPF-68 and NPF-81: Amendments revised the Facility Operating Licenses and Technical Specifications.

Date of initial notice in Federal Register: May 9, 2017 (82 FR 21563).

The Commission's related evaluation of the amendments is contained in a Safety Evaluation dated September 19, 2017.

No significant hazards consideration comments received: No.

Tennessee Valley Authority, Docket No. 50-391, Watts Bar Nuclear Plant, Unit 2, Rhea County, Tennessee

Date of amendment request: December 21, 2016, as supplemented by letter dated May 19, 2017.

Brief description of amendment: The amendment revised Technical Specification (TS) Surveillance Requirements (SRs) 3.6.11.2 and 3.6.11.3 to modify the requirements for the total weight of stored ice, minimum weight of each ice basket, and average ice weight of sample baskets. The amendment also made conforming changes to TS Table SR 3.0.2-1.

Date of issuance: September 14, 2017.

Effective date: As of the date of issuance and shall be implemented within 30 days of issuance.

Amendment No.: 14. A publicly-available version is in ADAMS under Accession No. ML17215B037; documents related to this amendment are listed in the Safety Evaluation enclosed with the amendment.

Facility Operating License No. NPF-96: Amendment revised the Facility Operating License and TSs.

Date of initial notice in Federal Register: March 28, 2017 (82 FR 15388). The supplemental letter dated May 19, 2017, provided additional information that clarified the application, did not expand the scope of the application as originally noticed, and did not change the NRC staff's original proposed no significant hazards consideration determination as published in the Federal Register.

The Commission's related evaluation of the amendment is contained in a Safety Evaluation dated September 14, 2017.

No significant hazards consideration comments received: No.

Union Electric Company, Docket No. 50-483, Callaway Plant, Unit 1, Callaway County, Missouri

Date of amendment request: October 11, 2016, as supplemented by letters dated May 18, 2017, and June 2, 2017.

Brief description of amendment: The amendment revised the Technical Specification (TS) requirements to reference and allow use of the NRC-approved core reload methodologies described in Westinghouse topical reports WCAP-16045-P-A, Revision 0, “Qualification of the Two-Dimensional Transport Code PARAGON”; WCAP-16045-P-A, Addendum 1-A, Revision 0, “Qualification of the NEXUS Nuclear Data Methodology”; and WCAP-10965-P-A, Addendum 2-A, Revision 0, “Qualification of the New Pin Power Recovery Methodology,” for the Callaway Plant.

Date of issuance: September 15, 2017.

Effective date: As of the date of issuance and shall be implemented within 90 days from the date of issuance.

Amendment No.: 217. A publicly-available version is in ADAMS under Accession No. ML17236A082; documents related to this amendment are listed in the Safety Evaluation enclosed with the amendment.

Renewed Facility Operating License No. NPF-30: The amendment revised the Operating License and TSs.

Date of initial notice in Federal Register: January 3, 2017 (82 FR 162). The supplemental letters dated May 18, 2017, and June 2, 2017, provided additional information that clarified the application, did not expand the scope of the application as originally noticed, and did not change the NRC staff's original proposed no significant hazards consideration determination as published in the Federal Register.

The Commission's related evaluation of the amendment is contained in a Safety Evaluation dated September 15, 2017.

No significant hazards consideration comments received: No.

Dated at Rockville, Maryland, this 3rd day of October 2017.
For the Nuclear Regulatory Commission.
Anne T. Boland,
Director, Division of Operating Reactor Licensing, Office of Nuclear Reactor Regulation.

[FR Doc. 2017-21607 Filed 10-6-17; 8:45 am]

BILLING CODE 7590-01-P